DEPARTMENT OF JUSTICE

28 CFR Part 25

[FBI 108N; AG Order No. 2514-2001]

RIN 1110-AA07

National Instant Criminal Background Check System

AGENCY: Federal Bureau of Investigation, Department of Justice.

ACTION: Notice of proposed rulemaking; notice of reopening of comment period.

SUMMARY: On July 6, 2001, at 66 FR 35567, the Department published a notice of proposed rulemaking (NPRM) concerning five proposed changes in the National Instant Criminal Background Check System (NICS) regulations. The original 60-day comment period for the July 6, 2001 NPRM closed on September 4, 2001. In order to ensure that the public has ample opportunity to review and comment on the proposed changes to the NICS regulations, the Department is reopening the comment period and will accept comments for an additional 30-day period. Any comments received by the Department after the initial comment period ended on September 4, 2001, and before the publication of this action will be treated has having been timely filed and will be considered along with all other comments received after the NPRM was published through the end of the reopened comment period.

DATES: Written comments must be received by October 22, 2001.

ADDRESSES: All comments should be sent to: Mr. Timothy Munson, Section Chief, Federal Bureau of Investigation, Module A-3, 1000 Custer Hollow Road, Clarksburg, West Virginia 26306-0147, (304) 625-2000.

Dated: September 14, 2001.
John Ashcroft,
Attorney General.

[FR Doc. 01-23349 Filed 9-19-01; 8:45 am]

BILLING CODE 4410-02-P